DEPARTMENT OF ENERGY

Federal Energy Regulatory Commission

[Docket No. RP99-480-009]

Texas Eastern Transmission, LP; Notice of Compliance Filing

June 4, 2004.

Take notice that on June 1, 2004, Texas Eastern Transmission, LP (Texas Eastern) tendered for filing as part of its FERC Gas Tariff, Seventh Revised Volume No. 1, Sub Original Sheet No. 108, effective May 1, 2004.

Texas Eastern states that the purpose of this filing is to comply with the Commission's order issued in the captioned docket on April 30, 2004 (April 30 Order). Specifically, Texas Eastern states that it is revising the tariff sheet filed herewith, which lists Carolina Power & Light Company d/b/a Progress Energy Carolinas, Inc. (CP&L) as a party to a negotiated rate arrangement, in accordance with the April 30 Order. Texas Eastern also states that, by this filing, Texas Eastern proposes to implement a revised service agreement, which includes a negotiated rate, between Texas Eastern and CP&L for firm transportation service under Rate Schedule FT-1 on facilities constructed as part of Texas Eastern's M-1 Expansion Project (Docket No. CP02-381).

Texas Eastern states that copies of its filing have been served on all affected customers of Texas Eastern, interested State commissions, and all parties on the Commission's official service list in this proceeding.

Any person desiring to protest said filing should file a protest with the Federal Energy Regulatory Commission, 888 First Street, NE., Washington, DC 20426, in accordance with § 385.211 of the Commission's Rules and Regulations. All such protests must be filed in accordance with § 154.210 of the Commission's Regulations. Protests will be considered by the Commission in determining the appropriate action to be taken, but will not serve to make protestants parties to the proceedings. This filing is available for review at the Commission in the Public Reference Room or may be viewed on the Commission's Web site at http://www.ferc.gov using the eLibrary link. Enter the docket number excluding the last three digits in the docket number field to access the document. For assistance, please contact FERC Online Support at FERCOnlineSupport@ferc.gov or toll-free at (866) 208-3676, or TTY, contact (202) 502-8659. The Commission strongly encourages electronic filings. See 18 CFR 385.2001(a)(1)(iii) and the instructions on the Commission's Web site under the e-Filing link.

Linda Mitry,
Acting Secretary.

[FR Doc. E4-1336 Filed 6-9-04; 8:45 am]

BILLING CODE 6717-01-P